FEDERAL EMERGENCY MANAGEMENT AGENCY

Agency Information Collection Activities: Submission for OMB Review; Comment Request

ACTION: Notice and request for comments.

SUMMARY: The Federal Emergency Management Agency is submitting a request for review and approval of a collection of information under the emergency processing procedures in the Office of Management and Budget (OMB) regulation 5 CFR 1320.13. FEMA is requesting that this information collection be approved by January 27, 2003. The approval will authorize FEMA to use the collection through July 31, 2003. FEMA plans to follow this emergency request with a request for a 3-year approval. The request will be processed under OMB's normal clearance procedures in accordance with the provisions of OMB regulation 5 CFR 1320.10. To help us with the timely processing of the emergency and normal clearance submissions to OMB, FEMA invites the general public to comment on the proposed collection of information.

SUPPLEMENTARY INFORMATION: Section 404 of the Robert R. Stafford Disaster Relief and Emergency Assistance Act, Public Law 93-288, as amended, authorizes Hazard Mitigation Grant Program awards to grantees to administer the program, which is a post-disaster program that contributes funds toward the cost of hazard mitigation activities in order to reduce the risk of future damage, hardship, loss or suffering in any area affected by a major disaster. Grantees are defined as any State of the United States, the District of Columbia, Puerto Rico, the Virgin Islands, Guam, American Samoa, and the Commonwealth of the Northern Mariana Islands, or an Indian tribal government that chooses to act as a grantee. Subgrantees can be a State agency, local government, private nonprofit organization, or Indian tribal government to which a subgrant is awarded, and which is accountable to the grantee for the use of the funds provided. In addition, grantees must report quarterly to FEMA as to the performance and financial status of the grant.

Collection of Information

Title: Hazard Mitigation Grant Program Application and Reporting.

Type of Information Collection: Reinstatement, with change, of a previously approved collection for which approval has expired.

OMB Number: 3067-0207.

Abstract: FEMA will use HMGP subgrant applications submitted by the Grantee to determine whether the Grantee's proposed use of the funds meets the requirements and intent of the program. The application will provide FEMA the required information to determine whether the mitigation activity proposed for funding meets eligibility criteria, including environmental review, and to objectively evaluate its merits. The eligibility reviews must be completed and approved by FEMA before a subgrant can be awarded and the eligible activity initiated. Grantees must report on a quarterly basis, certifying how the funds are being used and reporting on the progress of activities funded under the subgrant awards made to the Grantee by FEMA.

Affected Public: State, local or tribal government, and not-for-profit institutions.

Estimated Total Annual Burden Hours:

Type of collection forms | Number of respondents (A) | Number of responses/respondent (B) | Total number of annual responses | Hours per response and recordkeeping | Annual burden hours (A* B* C)
SF-424 (Application face sheet) | 52 | 1 | 52 | 2 hours | 104
FEMA Form 20-20 Budget—Non-Construction | 52 | 15 | 780 | 9.7 hours | 7,566
FEMA Form 20-16, 20-16A, 20-16B, 20-16C (Summary of assurances & certifications) | 52 | 1 | 52 | 1 hour | 52
SF LLL (lobbying disclosure) | 52 | 1 | 52 | 10 minutes | 8.7
Project Narrative (section 209.8(b) | 52 | 15 | 780 | 12 hours | 9,360
Benefit—Cost Determination | 52 | 14 | 728 | 5 hours | 3,640
Environmental Review | 52 | 14 | 728 | 7.5 hours | 5,460
HMGP Desk Reference | 52 | 1 | 52 | 4 hours | 208
Property Acquisition Handbook for Local Communities | 52 | 10 | 520 | 4 hours | 2,080
FEMA Exhibit A (deed restrictions on property acquired) | 1,763 | 1 | 1,763 | 30 minutes | 881.5
OMB Circular A-94 | 52 | 15 | 780 | 2 hours | 1,560
OMB Circular A-87 or A-122 | 52 | 15 | 780 | 2 hours | 1,560
FEMA Form 20-17 Outlay Report and Request for Reimbursement | 52 | 15 | 780 | 17.2 hours | 13,416
FEMA Form 20-10—Financial Status Report, Quarterly Progress Report | 52 | 4 | 208 | 10.5 hours | 2,184
FEMA Form 20-18 Report of Government Property | 52 | 6 | 312 | 4.2 | 1,310.4
FEMA 20-19 Report of Unobligated Balance (or substitute) | 52 | 6 | 312 | 4 hours | 1,248
Annual Audit & Audit Trail Requirements | 52 | 1 | 52 | 30 hours | 1560
Total Burden for HMGP | 1,815 | 145 | 8,523 |  | 52,198.6

Estimated Cost: FEMA estimates hour burden costs to be $1,246,503 annually. The cost is based on the number of burden hours for each type of information collection/form, as indicated above, and the estimated wage rate for those individuals responsible for collecting the information or completing the form. FEMA assumes that urban and regional planners are the most likely staff to have responsibility for information collected and forms completed at the State level. Wage rates were determined using data from the Department of Labor, Bureau of Labor Statistics (BLS), which indicates that the median hourly earnings of urban and regional planners for 2000 are $23.88.

Comments: Written comments are solicited to (a) evaluate whether the proposed data collection is necessary for the proper performance of the agency, including whether the information shall have practical utility; (b) evaluate the accuracy of the agency's estimate of the burden of the proposed collection of information; (c) enhance the quality, utility, and clarity of the information to be collected; and (d) minimize the burden of the collection of information on those who are to respond, including through the use of appropriate automated, electronic, mechanical, or other technological collection techniques or other forms of information technology, e.g. permitting electronic submission of responses. Submit comments to the OMB within 30 days of the date of this notice. To ensure that FEMA is fully aware of any comments or concerns that you share with OMB, please provide us with a copy of your comments. FEMA will continue to accept comments for 60 days from the date of this notice.

OMB Addressee: Interested persons should submit written comments to the Office of Management and Budget, Office of Information and Regulatory Affairs, Attention: Desk Officer for the Federal Emergency Management Agency, 725 17th Street, NW., Washington, DC 20503.

FEMA Addressee: Submit written comments to Muriel B. Anderson, Chief, Records Management Branch, Information Resources Management Division, Information Technology and Services Directorate, Federal Emergency Management Agency, 500 C Street, SW., Room 316, Washington, DC 20472.

FOR FURTHER INFORMATION CONTACT: For additional information contact Deborah Ingram, Federal Insurance and Mitigation Administration, at (202) 646-3856. Contact Ms. Anderson at (202) 646-2625, facsimile number (202) 646-3347, or e-mail address InformationCollections@fema.gov for copies of the proposed collection of information.

Dated: December 30, 2002.
Edward W. Kernan,
Division Director, Information Resources Management Division, Information Technology Services Directorate.

[FR Doc. 03-472 Filed 1-9-03; 8:45 am]

BILLING CODE 6718-01-P